DEPARTMENT OF TRANSPORTATION

Federal Aviation Administration

14 CFR Part 39

[Docket No. FAA-2025-1120; Project Identifier MCAI-2025-00019-T; Amendment 39-23250; AD 2026-03-01]

RIN 2120-AA64

Airworthiness Directives; Airbus SAS Airplanes

AGENCY: Federal Aviation Administration (FAA), DOT.

ACTION: Final rule.

SUMMARY: The FAA is adopting a new airworthiness directive (AD) for all Airbus SAS Model A350-941 and -1041 airplanes. This AD was prompted by reports of electronic centralized aircraft monitor (ECAM) messages requiring flight control remote module (FCRM) replacement linked to solder structural fatigue. This AD requires replacement of affected parts before exceeding the life limit and limits the installation of affected parts under certain conditions. The FAA is issuing this AD to address the unsafe condition on these products.

DATES: This AD is effective March 9, 2026.

The Director of the Federal Register approved the incorporation by reference of a certain publication listed in this AD as of March 9, 2026.

ADDRESSES:

AD Docket: You may examine the AD docket at regulations.gov under Docket No. FAA-2025-1120; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-1120.

FOR FURTHER INFORMATION CONTACT: Kin Suen Chan, Aviation Safety Engineer, FAA, 2200 South 216th St., Des Moines, WA 98198; phone: 847-294-7496; email: kin.suen.chan@faa.gov.

SUPPLEMENTARY INFORMATION:

Background

The FAA issued a notice of proposed rulemaking (NPRM) to amend 14 CFR part 39 by adding an AD that would apply to all Airbus SAS Model A350-941 and -1041 airplanes. The NPRM was published in the Federal Register on June 27, 2025 (90 FR 27485). The NPRM was prompted by AD 2025-0008, dated January 9, 2025 (EASA AD 2025-0008) (also referred to as the MCAI), issued by EASA, which is the Technical Agent for the Member States of the European Union. The MCAI states occurrences of ECAM messages requiring FCRM replacement have been reported, and further investigation identified an issue linked to solder structural fatigue. This condition, if not corrected, could lead to failure of a flight control actuator, possibly resulting in reduced control of the airplane.

In the NPRM, the FAA proposed to require replacement of affected parts before exceeding the life limit and limit the installation of affected parts under certain conditions, as specified in EASA AD 2025-0008. The FAA is issuing this AD to address the unsafe condition on these products.

You may examine the MCAI in the AD docket at regulations.gov under Docket No. FAA-2025-1120.

Discussion of Final Airworthiness Directive

Comments

The FAA received a comment from Air Line Pilots Association, International (ALPA) who supported the NPRM without change.

The FAA received additional comments from Delta Air Lines (Delta) and the Foundation for Aviation Safety. The following presents the comments received on the NPRM and the FAA's response to each comment.

Request To Replace Parts Using Standard Maintenance Procedures

Delta requested the FAA confirm that the proposed AD would only require replacing each affected part with a serviceable part within the compliance time specified in table 1 of EASA AD 2025-0008 and testing the installed serviceable part in accordance with paragraph 3.E. of Airbus Service Bulletin A350-27-P066, dated November 12, 2024. Delta stated that if this is correct, then using standard maintenance manuals instead of the Airbus service bulletin would provide an acceptable level of safety. Delta noted the service bulletin also specifies collecting FCRM part and serial numbers but reporting of that information is not mandatory according to paragraph (i) of the proposed AD. Delta concluded that allowing operators to use standard maintenance manuals and maintenance records to replace affected parts will provide more flexibility to address the safety condition.

The FAA confirms this AD requires replacing each affected part with a serviceable part within the applicable compliance time specified in table 1 of EASA AD 2025-0008, except as provided by paragraph (h)(1) of this AD. This AD also requires testing each installed serviceable part in accordance with paragraph 3.E. of the Airbus service bulletin and limits the installation of affected parts under certain conditions. The FAA notes the replacement and testing procedures in paragraphs 3.C. and 3.E. of the Airbus service bulletin refer to the applicable A350 maintenance procedures. If an operator would like to use other maintenance procedures not referenced in the Airbus service bulletin, the FAA will consider requests for alternative methods of compliance (AMOCs) under the provisions of paragraph (j)(1) of this AD. The FAA has not changed this AD in regard to this comment.

Request To Clarify Condition for Replacement

Delta requested the FAA add an exception to paragraph (h) of the proposed AD to clarify the condition in paragraph 3.C(1)(a)1c of Airbus Service Bulletin A350-27-P066, dated November 12, 2024, for when the replacement of the FCRMs must be done. Delta stated it is not clear whether that paragraph requires replacement when any FCRM reaches the threshold, or all 22 FCRMs reach it. Delta noted paragraph (1) of EASA AD 2025-0008 and paragraph (h)(3) of the proposed AD imply each FCRM must be replaced prior to reaching the threshold, and replacement of the other FCRMs may be postponed until closer to their thresholds.

The FAA agrees that this AD requires replacement of each affected FCRM before it reaches the life limit required by this AD, and that all 22 FCRMs may not need to be replaced at the same time. Additionally, the FAA notes that the requirements of the AD take precedence over any instructions specified in the referenced Airbus service bulletin. Operators must comply with the requirements of this AD and use the relevant procedures in the Airbus service bulletin to replace an affected FCRM and test the installed serviceable FCRM. The FAA has determined no change to this AD is necessary in this regard.

Request To Clarify Inspection Requirement for FCRMs With Different Conditions

Delta requested the FAA add exceptions to paragraph (h) of the proposed AD to clarify that the procedures in paragraphs 3.C(1)(a)2, 4, and 5 of Airbus Service Bulletin A350-27-P066, dated November 12, 2024, apply if any of the 22 FCRMs meet the conditions of those paragraphs. Delta stated it is not clear whether the procedures in those paragraphs should be accomplished if all or any of the 22 FCRMs meet the conditions of those paragraphs. Delta also stated that access to the FCRMs and replacement should be based on each affected part and not the condition of all 22 FCRMs.

The FAA agrees with Delta's interpretation of paragraphs 3.C(1)(a)2, 4, and 5 in the Airbus service bulletin, but has determined that no change to this AD is necessary in this regard. The FAA notes that this AD does not require the inspection procedures in the Airbus service bulletin. Instead, this AD requires replacement of each affected FCRM, as defined in EASA AD 2025-0008, before it reaches the life limit required by this AD. To comply with the requirements of this AD, operators must use the relevant procedures in the Airbus service bulletin to replace an affected FCRM and test the installed serviceable FCRM.

Request To Identify Root Cause and Prevention of Component Failure

The Foundation for Aviation Safety asked what the root cause of the component failure is and what is being done to prevent this from happening in the future.

As noted in EASA AD 2025-0008, investigation of the reported FCRM failures identified an issue linked to solder structural fatigue in the affected FCRMs. Safety analysis conducted by Airbus demonstrated that the FCRM failure rate increases with part utilization (i.e., the number of accumulated in-service flight cycles and/or flight hours), and that the FCRMs must be replaced before reaching 9,000 flight cycles (FC) or 50,000 flight hours (FH), whichever occurs first. To prevent failure of an affected FCRM from occurring in the future, the FAA is requiring operators to replace each affected FCRM before it exceeds the life limit of 9,000 FC or 50,000 FH, whichever occurs first. The FAA also requires testing of any serviceable part installed on an airplane prior to returning the airplane to service.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2025-0008, which specifies procedures for replacing affected FCRMs with serviceable FCRMs and testing the serviceable FCRMs. EASA AD 2025-0008 also limits the installation of affected parts under certain conditions. This material is reasonably available because the interested parties have access to it through their normal course of business or by the means identified in the ADDRESSES section.

Costs of Compliance

The FAA estimates that this AD affects 35 airplanes of U.S. registry. The FAA estimates the following costs to comply with this AD:

Estimated Costs for Required Actions
Labor cost | Parts cost | Cost per product | Cost on U.S. operators
1 work-hour × $85 per hour = $85 | $28,000 | $28,085 | $982,975 (per FCRM).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-03-01 Airbus SAS: Amendment 39-23250; Docket No. FAA-2025-1120; Project Identifier MCAI-2025-00019-T.

(a) Effective Date

This airworthiness directive (AD) is effective March 9, 2026.

(b) Affected ADs

None.

(c) Applicability

This AD applies to all Airbus SAS Model A350-941 and -1041 airplanes, certificated in any category.

(d) Subject

Air Transport Association (ATA) of America Code 27, Flight controls.

(e) Unsafe Condition

This AD was prompted by reports of electronic centralized aircraft monitor (ECAM) messages requiring flight control remote module (FCRM) replacement linked to solder structural fatigue. The FAA is issuing this AD to address potential failure of a flight control actuator. The unsafe condition, if not addressed, could result in reduced control of the airplane.

(f) Compliance

Comply with this AD within the compliance times specified, unless already done.

(g) Requirements

Except as specified in paragraphs (h) and (i) of this AD: Comply with all required actions and compliance times specified in, and in accordance with, European Union Aviation Safety Agency (EASA) AD 2025-0008, dated January 9, 2025 (EASA AD 2025-0008).

(h) Exceptions to EASA AD 2025-0008

(1) Where EASA AD 2025-0008 refers to its effective date, this AD requires using the effective date of this AD.

(2) Where EASA AD 2025-0008 defines a serviceable part as an “FCRM, eligible for installation in accordance with Airbus instructions, which is not an affected part; or an affected part that has accumulated less than 9 000 flight cycles (FC) and less than 50 000 flight hours (FH) since first installation on any aeroplane (see Note 1 of this AD)”, this AD requires replacing that text with “FCRM, eligible for installation, which is not an affected part; or an affected part that has accumulated less than 9,000 flight cycles (FC) and less than 50,000 flight hours (FH) since first installation on any airplane (see Note 1 of this AD)”.

(3) Where paragraph (1) of EASA AD 2025-0008 specifies to “replace each affected part with a serviceable part, as defined in this AD, in accordance with the instructions of the SB”, this AD requires replacing that text with “replace each affected part with a serviceable part, as defined in this AD, and test in accordance with paragraph 3.E. of the Accomplishment Instructions of the SB”.

(4) Where paragraph (2) of EASA AD 2025-0008 specifies “the affected part is replaced as required by paragraph (1)”, this AD requires replacing that text with “the affected part is replaced with a serviceable part at the applicable time specified in row A of Table 1”.

(5) This AD does not adopt the “Remarks” section of EASA AD 2025-0008.

(i) No Reporting Requirement

Although the material referenced in EASA AD 2025-0008 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Kin Suen Chan, Aviation Safety Engineer, FAA, 2200 South 216th St., Des Moines, WA 98198; phone: 847-294-7496; email: kin.suen.chan@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2025-0008, dated January 9, 2025.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 27, 2026.
Peter A. White,
Deputy Director, Integrated Certificate Management Division, Aircraft Certification Service.

[FR Doc. 2026-02098 Filed 1-30-26; 8:45 am]

BILLING CODE 4910-13-P